DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, flood insurance, reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of Flooding and Location | #Depth in feet above ground. *Elevation in feet (NGVD) •Elevation in feet (NAVD)
MARYLAND
St. Mary's County (Unincorporated Areas) (FEMA Docket No. D7578)
Back Creek:
Approximately 0.62 mile upstream of confluence with Cuckold Creek | •6
Approximately 1.25 miles upstream of confluence with Cuckold Creek | •22
Blake Creek:
Approximately 1.14 miles upstream of confluence with Potomac River | •5
Approximately 1.70 miles upstream of confluence with Potomac River | •13
Broad Run:
At the confluence with Brooks Run | •82
Approximately 0.17 mile upstream of confluence with Brooks Run | •82
Brooks Run:
At the confluence with McIntosh Run | •43
Approximately 1.24 miles upstream of confluence with McIntosh Run | •83
Budds Creek:
Approximately 0.5 mile upstream of confluence with Wicomico River | •6
Approximately 1.1 miles upstream of State Route 234 | •64
Budds Creek Tributary 1:
At the confluence with Budds Creek | •15
Approximately 0.5 mile upstream of the confluence with Budds Creek | •25
Bull Run:
Approximately 0.19 mile upstream of confluence with Chaptico Creek | •6
Approximately 0.3 mile upstream of Manor Road | •49
Burnt Mill Creek:
Approximately 750 feet upstream of confluence with McIntosh Run | •33
At confluence of Burnt Mill Creek Tributary | •88
Burnt Mill Creek Tributary:
At confluence with Burnt Mill Creek | •88
Approximately 0.36 mile upstream of confluence with Burnt Mill Creek | •96
Burroughs Run:
At confluence with Bull Run | •10
Approximately 0.37 mile upstream of confluence with Bull Run | •17
Canoe Neck Creek Tributary:
Approximately 0.24 mile upstream of Canoe Neck Creek | •6
Approximately 0.94 mile upstream of confluence with Canoe Neck Creek | •21
Carthagena Creek:
Approximately 0.86 mile downstream of Drayden Road | •5
Approximately 1,680 feet upstream of Drayden Road | •27
Cat Creek:
Approximately 0.79 mile upstream of confluence with Patuxent River | •7
Approximately 1.85 miles upstream of confluence with Patuxent River | •24
Chaptico Creek (Downstream Portion):
Approximately 2,243 feet upstream of the confluence with Bull Run | •6
At confluence with Nelsons Run | •6
Chaptico Creek (Upstream Portion):
Approximately 400 feet downstream of confluence with Lacy Run | •55
Approximately 3.1 miles upstream of confluence of Lacy Run | •177
Church Creek:
Approximately 850 feet downstream of State Route 5 | •5
Approximately 1,585 feet upstream of State Route 5 | •16
Church Creek Tributary:
At confluence with Church Creek | •14
Approximately 1,160 feet upstream of the confluence with Church Creek | •16
Coatigan Run:
Approximately 0.66 mile upstream of confluence with Patuxent River | •7
Approximately 2.04 miles upstream of confluence with Patuxent River | •29
Coffee Hill Run:
Approximately 1.03 miles upstream of confluence with Chaptico Creek | •28
Approximately 0.47 mile upstream of Bethel Church Road | •86
Cuckold Creek:
Approximately 1.17 miles upstream of confluence with Forrest Landing Cove | •6
Approximately 1.44 miles upstream of confluence with Forrest Landing Cove | •12
Cuckold Creek Tributary 1:
Approximately 0.6 mile downstream of Sotterley Road | •6
Approximately 0.47 mile upstream of Sotterley Road | •24
Cuckold Creek Tributary 2:
At confluence with Cuckold Creek Tributary 1 | •15
Approximately 600 feet upstream of confluence with Cuckold Creek Tributary 1 | •16
Cuckold Creek Tributary 3:
At confluence with Cuckold Creek Tributary 1 | •17
Approximately 0.43 mile upstream of confluence with Cuckold Creek Tributary 1 | •26
Dynard Run:
Approximately 800 feet downstream of Colton Point Road | •6
Approximately 1.03 miles upstream of Colton Point Road | •37
Eastern Branch:
Approximately 400 feet upstream of confluence with Hillton Run | •5
Approximately 1.7 miles upstream of confluence with Pembrook Run | •51
Fisherman Creek:
Approximately 595 feet upstream of Saint Mary's River | •5
Approximately 1.32 miles upstream of State Route 5 | •20
Fisherman Creek Tributary:
At confluence with Fisherman Creek | •10
Approximately 0.40 mile upstream of confluence with Fisherman Creek | •18
Forrest Hall Branch:
Approximately 0.84 mile upstream of confluence with Hayden Run | •50
Approximately 1.4 miles upstream of Foley Mattingly Road | •98
Glebe Run:
Approximately 1,470 feet downstream of State Route 5 | •6
Approximately 1.25 miles upstream of State Route 5 | •40
Gravely Run:
At the confluence with Glebe Run | •20
Approximately 1.15 miles upstream of State Route 471 | •57
Greenhill Run:
Upstream of Maypole Road | •19
Approximately 0.45 mile upstream of Maypole Road | •37
Hayden Run:
Approximately 400 feet upstream of confluence with Forrest Hall Branch | •39
Approximately 2.75 miles upstream of confluence with Forrest Hall Branch | 90
Herring Creek:
Approximately 1.1 miles downstream of Beauvue Road | •8
Approximately 0.44 mile upstream of Beauvue Road | •22
Horse Landing Creek:
Approximately 0.31 mile upstream of confluence with Patuxent River | •7
Approximately 1.85 miles upstream of confluence with Patuxent River | •34
Indian Creek:
At confluence with Unnamed Creek 1 | •6
Approximately 3.6 miles upstream of confluence with Unnamed Creek 1 | •94
Indiantown Creek:
Approximately 950 feet upstream of confluence with Chaptico Bay | •5
Approximately 0.93 mile upstream of confluence with Chaptico Bay | •27
Johns Creek:
Approximately 1,200 feet upstream of confluence with St. Mary's River | •16
Approximately 0.89 mile upstream of State Route 249 | •71
Killpeck Creek:
Approximately 400 feet upstream of confluence of Lockes Swamp Creek | •6
Approximately 4.04 miles upstream of confluence with Lockes Swamp Creek | •90
Lacy Run:
At confluence with Chaptico Creek | •57
Approximately 1.19 miles upstream of confluence with Chaptico Creek | •91
Lockes Swamp Creek:
Approximately 0.31 mile upstream of confluence with Killpeck Creek | •7
Approximately 4.43 miles upstream of confluence with Killpeck Creek | •95
Locust Run:
At confluence with St. Clements Creek | •37
Approximately 1.31 miles upstream of confluence with St. Clements Creek | •63
Lows Run:
At the confluence with Brooks Run | •65
Approximately 0.4 mile upstream of St. Johns Road | •83
McIntosh Run:
Approximately 0.55 mile downstream of Pleasant Valley Avenue | •39
Approximately 0.91 mile upstream of Secretariat Drive | •83
Miski Run:
Approximately 0.2 mile upstream of confluence with McIntosh Run | •28
Approximately 0.59 mile upstream of Maypole Road | •88
Moll Dyers:
Approximately 0.46 mile downstream of State Route 244 | •6
Approximately 0.64 mile upstream of State Route 5 | •55
Nelson Run:
Approximately 520 feet upstream of confluence with McIntosh Run | •10
Approximately 2.1 miles upstream of confluence with McIntosh Run | •63
Nelson's Run
At confluence with Chaptico Creek | •6
Approximately 1.39 miles upstream of confluence with Chaptico Creek | •47
Pembrook Run:
At confluence with Eastern Branch | •19
Approximately 1.55 miles upstream of confluence with Eastern Branch | •55
Persimmon Creek:
Approximately 0.41 mile downstream of New Market Turner Road | •7
Approximately 0.4 mile upstream of confluence of Persimmon Creek Tributary 1 | •54
Persimmon Creek Tributary 1:
At confluence with Persimmon Creek | •18
Approximately 0.96 mile upstream of confluence with Persimmon Creek | •35
Pine Hill Run:
Approximately 0.22 mile upstream of confluence with Chesapeake Bay | •5
Approximately 0.88 mile upstream of confluence with Chesapeake Bay | •8
Poplar Hill Creek:
Approximately 500 feet downstream of Tower Hill Road | •7
Approximately 1.0 mile upstream of Medleys Creek Road | •37
Rich Neck Creek:
At confluence with Burnt Mill Creek | •42
Approximately 1.47 miles upstream of confluence with Burnt Mill Creek | •71
Saint Clements Creek:
Approximately 350 feet upstream of confluence of Dynard Run | •6
Approximately 1.3 miles upstream of confluence of St. Clements Creek Tributary 1 | •82
Saint Clements Creek Tributary 1:
At confluence with St. Clements Creek | •60
Approximately 2.3 miles upstream of confluence with St. Clements Creek | •85
Saint Clements Creek Tributary 2:
At confluence with St. Clements Creek | •27
Approximately 0.84 mile upstream of confluence with St. Clements Creek | •46
St. Inigoes Creek:
Approximately 80 feet upstream of State Route 5 | •6
Approximately 0.49 mile upstream of State Route 5 | •14
St. Mary's River:
Approximately 950 feet upstream of confluence with Jarboesville Run | •29
Approximately 0.98 mile upstream of State Route 4 | •95
St. Mary's River Tributary 1:
At confluence with St. Mary's River | •51
Approximately 1.22 miles upstream of confluence with St. Mary's River | •70
St. Mary's River Tributary 2:
At confluence with St. Mary's River Tributary 1 | •53
Approximately 0.26 mile upstream of confluence with St. Mary's River Tributary 1 | •70
St. Mary's River Tributary 3:
At confluence with St. Mary's River Tributary 1 | •65
Approximately 0.27 mile upstream of confluence with St. Mary's River Tributary 1 | •71
St. Thomas Creek:
Approximately 1.1 miles upstream of confluence with Patuxent River | •5
Approximately 1.5 miles upstream of confluence with Patuxent River | •9
Tom Swamp Run:
At confluence with Rich Neck Creek | •45
Approximately 2.35 miles upstream of confluence with Rich Neck Creek | •85
Tomakokin Creek:
Approximately 0.32 mile downstream of SR 470 | •6
Approximately 0.5 mile upstream of Bushwood Road | •52
Town Run:
At confluence with Brenton Bay | •5
Approximately 1.8 miles upstream of Leonardtown Point Lookout Road | •79
Town of Leonardtown
Unnamed Creek 1:
At confluence with Indian Creek | •6
Approximately 2.3 miles upstream of confluence with Indian Creek | •64
Unnamed Creek 2:
Approximately 0.58 mile upstream of confluence with Patuxent River | •7
Approximately 1.57 miles upstream of confluence with Patuxent River | •22
Unnamed Tributary to St. Clements Bay:
Approximately 0.35 mile upstream of confluence with St. Clements Bay | •6
Approximately 1.23 miles upstream of confluence with St. Clements Bay | •32
Warehouse Run:
Approximately 600 feet downstream of Flat Iron Road | •8
Approximately 0.60 mile upstream of Flat Iron Road | •28
Western Branch:
Approximately 970 feet upstream of confluence with St. Mary's River | •25
Approximately 2.27 miles upstream of confluence of Western Branch Tributary 3 | •94
Western Branch Tributary 1:
At the confluence with Western Branch | •58
Approximately 1.1 miles upstream of confluence with Western Branch | •68
Western Branch Tributary 2:
At the confluence with Western Branch | •70
Approximately 0.49 mile upstream of confluence with Western Branch | •70
Western Branch Tributary 3:
At the confluence with Western Branch | •71
Approximately 0.37 mile upstream of the confluence with Western Branch | •71
White Neck Creek Tributary:
Approximately 1,000 feet downstream of Jack Gibson Road | •6
At Colton Point Road | •12
St. Mary's County (Unincorporated Areas)
Maps available for inspection at the St. Mary's County Office of Land Use and Growth Management, 23150 Leonard Hall Drive, Leonardtown, Maryland.
Town of Leonardtown
Maps available for inspection at the Leonardtown Town Hall, 41675 Park Avenue, Leonardtown, Maryland.
NORTH CAROLINA
Nash County (Unincorporated Areas) (FEMA Docket No. D7562)
Beech Branch:
At the upstream side of the railroad | •96
Approximately 250 feet downstream of Red Oak Battleboro Road | •111
City of Rocky Mount
Compass Creek:
At the upstream side of the railroad | •85
Approximately 350 feet upstream of Red Oak Battleboro Road | •139
Goose Branch:
At the confluence with Tar River | •85
Approximately 250 feet downstream of Country Club Road | •97
Hornbeam Branch:
At the upstream side of the railroad | •85
Approximately 450 feet upstream of Peele Road | •104
Maple Creek:
At the confluence with Tar River | •101
Approximately 0.7 mile downstream of Bethlehem Road | •107
Stony Creek:
At the confluence with Tar River | •97
At the confluence with Big Peachtree Creek | •182
Town of Nashville, Town of Dortches, Town of Red Oak
Tar River:
At the downstream side of Leggett Road | •71
At the Franklin County boundary | •170
Big Peachtree Creek:
At the confluence with Stony Creek | •182
At the NashFranklin County boundary | •204
Fishing Creek:
Approximately 50 feet downstream of Ward Road | •129
At the NashWarren County boundary | •165
Grape Branch:
At the confluence with Tar River | •107
Approximately 1,200 feet upstream of Redman Road | •135
Jacobs Branch:
Approximately 400 feet upstream of the confluence with Tar River | •135
Approximately 1.0 mile upstream of Gandy Road | •152
Pig Basket Creek:
At the confluence with Stony Creek | •127
Approximately 0.4 mile upstream of Taylors Store Road | •156
Town of Red Oak
Polecat Branch:
Approximately 550 feet upstream of the confluence with Maple Creek | •111
Approximately 0.4 mile upstream of the confluence of Unnamed Tributary to Polecat Branch | •120
Unnamed Tributary to Polecat Branch:
At the confluence with Polecat Branch | •115
Approximately 250 feet downstream of Allison Lane | •140
Red Bud Creek:
At the confluence with Sandy Creek | •172
At the Nash-Franklin County boundary | •194
Sandy Creek:
At the confluence with Swift Creek | •155
At the Nash-Franklin County boundary | •183
Swift Creek:
At Red Oak Road | •130
Approximately 0.4 mile upstream of the confluence of Sandy Creek | •158
Stony Creek Tributary:
At the confluence with Stony Creek | •123
Approximately 1.2 miles upstream of I-95 | •155
Town of Dortches
Little Creek (Basin 11, Stream 2):
At the confluence with Moccasin Creek | •208
Approximately 300 feet upstream of the confluence with Moccasin Creek | •208
Press Prong:
At the confluence with Turkey Creek | •223
At the confluence of Press Prong Tributary | •231
Press Prong Tributary 1:
At the confluence with Press Prong | •231
Approximately 1,250 feet upstream of Wiley Road | •241
Turkey Creek:
Approximately 1.1 miles downstream of U.S. 264 | •168
Approximately 2,100 feet upstream of Burgess Road | •255
Turkey Creek Tributary 1:
Approximately 100 feet upstream of Burgess Road | •253
Approximately 840 feet upstream of Burgess Road | •253
Moccasin Creek:
Approximately 0.9 mile downstream of N.C. 231 | •158
Approximately 0.6 mile upstream of Interstate 264 | •220
Town of Dortches
Maps available for inspection at the Dortches Town Hall, 3057 Town Hall Road, Rocky Mount, North Carolina.
Nash County (Unincorporated Areas)
Maps available for inspection at the Nash County Planning Department, West Washington Street, Suite 2110, Nashville, North Carolina.
Town of Nashville
Maps available for inspection at the Nashville Town Hall, 200 West Washington Street, Nashville, North Carolina.
Town of Red Oak
Maps available for inspection at the Red Oak Town Hall, 8406 Red Oak Boulevard, Nashville, North Carolina.
City of Rocky Mount
Maps available for inspection at the City of Rocky Mount Planning Department, One Government Plaza, Rocky Mount, North Carolina.
NORTH CAROLINA
Perquimans County (Unincorporated Areas) (FEMA Docket No. D-7578)
Bethel Creek:
At Burnt Mill Road | •6
Approximately 1.0 mile upstream of U.S. Highway 13 | •11
Burnt Mill Creek:
At the upstream side of Burnt Mill Road | •6
Approximately 1,000 feet upstream of U.S. Highway 17 | •13
Burnt Mill Creek Tributary 1:
At the confluence with Burnt Mill Creek | •6
Approximately 0.6 mile upstream of U.S. Highway 17 | •13
Burnt Mill Creek Tributary 1A:
At confluence with Burnt Mill Creek Tributary 1 | •6
Approximately 0.7 mile upstream of U.S. Highway 17 | •17
Goodwin Mill Creek:
At Beach Springs Road | •6
Approximately 0.4 mile upstream of North Bear Swamp Road | •15
Goodwin Mill Creek Tributary 1:
At Goodwin Mill Road | •6
Approximately 0.5 mile upstream of Goodwin Mill Road | •12
Goodwin Mill Creek Tributary 2:
At confluence with Goodwin Mill Creek | •12
Approximately 1.5 miles upstream of Center Hill Highway | •15
Little River:
Approximately 1.5 miles upstream of U.S. Highway 17 | •9
Approximately 600 feet downstream of Sandy Road | •10
Mill Creek:
Approximately 400 feet downstream of Lake Road | •7
Approximately 0.3 mile downstream of Four Mile Desert Road | •11
Town of Winfall
Mill Creek Tributary 1:
At the confluence with Mill Creek | •9
Approximately 0.9 mile upstream of Swing Gate Road | •12
Mill Creek Tributary 2:
At the confluence with Mill Creek | •10
Approximately 0.9 mile upstream of Swing Gate Road | •14
Perquimans River:
Approximately 2.6 miles downstream of Gates County boundary | •11
Approximately 150 feet downstream of Gates County boundary | •11
Perquimans River Tributary 2:
Approximately 0.3 mile upstream of the confluence with Perquimans River | •6
Approximately 425 feet upstream of Layden Road | •10
Town of Hertford
Sutton Creek:
Approximately 1,000 feet downstream of the confluence with Sutton Creek Tributary 3 | •6
Approximately 1,000 feet upstream of U.S. Highway 17 | •13
Sutton Creek Tributary 3:
At the confluence with Sutton Creek | •6
Approximately 1,300 feet upstream of U.S. Highway 17 | •13
Sutton Creek Tributary 4:
At the confluence with Sutton Creek | •6
Approximately 2.2 miles upstream of the confluence with Sutton Creek | •12
Sutton Creek Tributary 5:
At the confluence with Sutton Creek | •7
Approximately 600 feet downstream of U.S. Highway 17 | •10
Sutton Creek Tributary 6:
At the confluence with Sutton Creek | •8
Approximately 0.7 mile upstream of U.S. Highway 17 | •11
Sutton Creek Tributary 7:
At the confluence with Sutton Creek | •8
Approximately 1.1 miles upstream of the confluence with Sutton Creek | •12
Town of Hertford
Maps available for inspection at the Hertford Town Hall, 114 West Grubb Street, Hertford, North Carolina.
Perquimans County (Unincorporated Areas)
Maps available for inspection at the Perquimans County Courthouse, 110 North Church Street, Hertford, North Carolina.
Town of Winfall
Maps available for inspection at the Winfall Town Hall, 100 Park View Lane, Winfall, North Carolina.
NORTH CAROLINA
Wilson County (Unincorporated Areas) (FEMA Docket No. D-7568)
Contentnea Creek:
At the confluence of Hominy Swamp | •79
Approximately 0.6 mile upstream of Highway 581 | •137
City of Wilson
Hominy Swamp:
At the confluence with Contentnea Creek | •79
Approximately 550 feet upstream of Airport Drive | •149
Little Hominy Swamp:
At the confluence with Hominy Swamp | •113
Approximately 450 feet upstream of George Dew Road | •145
Little Hominy Swamp Tributary 1:
Approximately 80 feet upstream of the confluence with Little Hominy Swamp | •127
Approximately 0.4 mile upstream of Stedman Drive | •147
Aycock Swamp:
At the confluence with Black Creek | •71
At the Wilson/Wayne County boundary | •76
Black Creek:
Approximately 0.8 mile upstream of the confluence with Contentnea Creek | •69
Approximately 1,000 feet upstream of the confluence of Robin Swamp | •131
Towns of Black Creek and Lucama
Bloomery Swamp Tributary 1:
Approximately 250 feet upstream of the confluence with Bloomery Swamp | •102
Approximately 0.5 mile upstream of Wilson Chistain Road | •134
Bloomery Swamp Tributary 2:
Approximately 850 feet upstream of the confluence with Bloomery Swamp | •103
Approximately 1.6 miles upstream of the confluence with Bloomery Swamp | •130
City of Wilson
Bloomery Swamp Tributary 3:
Approximately 500 feet upstream of the confluence with Bloomery Swamp | •125
Approximately 0.3 mile upstream of Packhouse Road | •151
Goss Swamp:
Approximately 1,300 feet upstream of the railroad | •62
Approximately 1,900 feet upstream of the confluence of Goss Swamp Tributary | •83
Town of Stantonsburg
Goss Swamp Tributary:
At the confluence with Goss Swamp | •82
Approximately 0.5 mile upstream of the confluence with Goss Swamp | •88
Great Swamp:
At the confluence with Black Creek | •81
Approximately 1,800 feet downstream of the confluence of Great Swamp Tributary 1 | •98
Great Swamp Tributary 1:
At the confluence with Great Swamp | •91
At the Wilson/Wayne County boundary | •92
Hominy Swamp Tributary 1:
At the confluence with Hominy Swamp | •85
Approximately 0.9 mile upstream of Lane Street | •127
City of Wilson
Hominy Swamp Tributary 2:
At the confluence with Hominy Swamp | •90
Approximately 100 feet upstream of Stantonsburg Road | •122
Shepard Branch:
At the confluence with Contentnea Creek | •107
Approximately 3,200 feet upstream of the confluence with Contentnea Creek | •107
Marsh Swamp:
At the confluence with Contentnea Creek | •123
Approximately 2.0 miles downstream of Rock Ridge Sims Road | •125
Little Swamp:
At the confluence with Contentnea Creek | •111
Approximately 0.8 mile upstream of the confluence with Contentnea Creek | •114
Bloomery Swamp:
At the confluence with Contentnea Creek | •102
Approximately 0.8 mile upstream of the confluence with Contentnea Creek | •102
Wiggins Mill Tributary:
At the confluence with Contentnea Creek | •99
Approximately 0.6 mile upstream of the confluence with Contentnea Creek | •99
Cattail Branch:
At the confluence with White Swamp | •91
Approximately 0.5 mile upstream of the confluence with White Swamp | •95
Cattail Swamp:
At the confluence with White Swamp | •82
Approximately 1.4 miles upstream of the confluence of Cattail Swamp Tributary | •103
Cattail Swamp Tributary 1:
At the confluence with Cattail Swamp | •95
Approximately 1.1 miles upstream of the confluence with Cattail Swamp | •103
Town Creek:
Approximately 300 feet downstream of the Wilson/Edgecombe County boundary | •73
Approximately 0.4 mile downstream of Sharpe Store Road | •117
Town of Elm City
Town Creek Tributary 1:
Approximately 0.2 mile downstream of Langley Road | •99
At the confluence with Town Creek | •78
Town Creek Tributary 2:
At the confluence with Town Creek | •73
Approximately 0.4 mile upstream of Route 42 | •95
White Swamp:
At the confluence with Town Creek | •80
Approximately 0.5 mile upstream of the confluence of Cattail Branch | •94
White Swamp Tributary:
At the confluence with White Swamp | •85
Approximately 0.8 mile upstream of the confluence with White Swamp | •90
Black Creek Tributary:
Approximately 225 feet upstream of the confluence of Tributary to Black Creek Tributary | •104
Approximately 2,085 feet upstream of the confluence of the Tributary to Black Creek Tributary | •107
Town of Lucama
Toisnot Swamp:
Approximately 1,000 feet upstream of the railroad | •62
Approximately 550 feet downstream of Wilson/Nash County boundary | •140
City of Wilson, Town of Stantonsburg
Toisnot Swamp Tributary 2:
At the confluence with Lake Wilson/Toisnot Swamp | •120
Approximately 400 feet upstream of Ridsen Road | •137
City of Wilson
Turkey Creek:
Approximately 100 feet downstream of Narron Road | •152
Approximately 100 feet downstream of the Wilson/Nash County boundary | •155
Turner Swamp:
At the confluence with Contentnea Creek | •67
At the Wilson/Wayne County boundary | •76
Ward Run:
At the Wilson/Pitt County boundary | •92
Approximately 1.3 miles upstream of the Wilson/Pitt County boundary | •98
Whiteoak Swamp:
Approximately 0.5 mile downstream of U.S. Highway 264 | •76
Approximately 2.5 miles upstream of Gardners School Road | •97
Juniper Creek:
Approximately 1,200 feet upstream of the confluence of Bloomery Swamp | •157
Approximately 1,500 feet upstream of Green Pond Road | •183
Lee Swamp:
At the confluence with Black Creek | •106
Approximately 0.4 mile upstream of Highway 301 | •119
Town of Lucama
Little Contentnea Creek:
At the Wilson/Greene County boundary | •87
Approximately 1.2 miles upstream of Eagles Cross Road | •91
Mill Branch:
At the confluence with White Oak Swamp | •83
Approximately 1.5 miles upstream of the confluence with White Oak Swamp | •96
Millstone Creek:
Approximately 500 feet upstream of Countryside Road | •159
Approximately 1,000 feet upstream of railroad | •195
City of Wilson, Town of Sims
Moccasin Creek:
Approximately 0.6 mile upstream of Highway 581 | •137
At the Wilson/Nash/Johnston County boundary | •158
Robin Swamp:
At the confluence with Black Creek | •129
Approximately 0.4 mile upstream of Newsome Mill Road | •139
Town of Black Creek
Maps available for inspection at the Town of Black Creek Zoning Administration, 112 West Center Street, Black Creek, North Carolina.
Town of Elm City
Maps available for inspection at the Elm City Town Hall, 117 South Railroad Street, Elm City, North Carolina.
Town of Lucama
Maps available for inspection at the Lucama Town Clerk's Office, 111 South Main Street, Lucama, North Carolina.
Town of Sims
Maps available for inspection at the Sims Town Hall, 6402 U.S. 264A, Sims, North Carolina.
Town of Stantonsburg
Maps available for inspection at the Stantonsburg Town Hall, 108 East Commercial Avenue, Stantonsburg, North Carolina.
City of Wilson
Maps available for inspection at the Wilson Development Services Department, 112 North Goldsboro Street, Wilson, North Carolina.
Wilson County Unincorporated Areas
Maps available for inspection at the Wilson County Mapping Department, 101 North Goldsboro, Wilson, North Carolina.

(Catalog of Federal Domestic Assistance No. 83.100, “Flood Insurance”)
Dated: May 26, 2004.
Anthony S. Lowe,
Mitigation Division Director, Emergency Preparedness and Response Directorate.

[FR Doc. 04-12374 Filed 6-1-04; 8:45 am]

BILLING CODE 9110-12-P